DEPARTMENT OF HEALTH AND HUMAN SERVICES

National Institutes of Health

Center for Scientific Review; Amended Notice of Meeting

Notice is hereby given of a change in the meeting of the Clinical Research and Field Studies of Infectious Diseases Study Section, June 13, 2011, 8:30 a.m. to June 14, 2011, 5 p.m., The Churchill Hotel, 1914 Connecticut Avenue, NW., Washington, DC 20009 which was published in the Federal Register on May 3, 2011, 76 FR 24894-24896.

The meeting will be held one day only June 13, 2011, 8 a.m. to 6:30 p.m.. The meeting location remains the same. The meeting is closed to the public.

Dated: May 10, 2011.
Jennifer S. Spaeth,
Director, Office of Federal Advisory Committee Policy.

[FR Doc. 2011-11921 Filed 5-13-11; 8:45 am]

BILLING CODE 4140-01-P